DEPARTMENT OF LABOR

Employment and Training Administration

[TA-W-63,521]

Daltile, Incorporated, a Subsidiary of Mohawk Industries, DTG Tile Corp./Dal-Elit, Dallas, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on July 28, 2008, applicable to workers of Daltile, Incorporated, a subsidiary of Mohawk Industries, Dallas, Texas. The notice was published in the Federal Register on August 12, 2008 (73 FR 46922).

At the request of the State agency, the Department reviewed the certification for workers of the subject firm. The workers are engaged in the production of ceramic tiles.

New information provided to the Department shows that some of the workers wages at the subject firm are being reported under the Unemployment Insurance (UI) tax account for DTG Tile Corp./Dal-Elit LP.

Accordingly, the Department is amending this certification to properly reflect this matter.

The intent of the Department's certification is to include all workers of Daltile, Incorporated, a subsidiary of Mohawk Industries who were adversely affected by increased imports of ceramic tiles.

The amended notice applicable to TA-W-63,521 is hereby issued as follows:

“All workers of Daltile, Incorporated, a subsidiary of Mohawk Industries, DTG Tile Corp./Dal-Elit LP, Dallas, Texas, who became totally or partially separated from employment on or after June 10, 2007, through July 28, 2010, are eligible to apply for adjustment assistance under Section 223 of the Trade Act of 1974, and are also eligible to apply for alternative trade adjustment assistance under Section 246 of the Trade Act of 1974.”

Signed at Washington, DC, this 18th day of November 2008.
Linda G. Poole,
Certifying Officer, Division of Trade Adjustment Assistance.

[FR Doc. E8-28357 Filed 11-28-08; 8:45 am]

BILLING CODE 4510-FN-P